DEPARTMENT OF HEALTH AND HUMAN SERVICES

Centers for Disease Control and Prevention

Advisory Committee on Breast Cancer in Young Women; Notice of Charter Renewal

AGENCY: Centers for Disease Control and Prevention (CDC), Department of Health and Human Services (HHS).

ACTION: Notice of charter renewal.

SUMMARY: The Centers for Disease Control and Prevention (CDC), within the Department of Health and Human Services (HHS), announces the renewal of the charter of the Advisory Committee on Breast Cancer in Young Women (ACBCYW).

FOR FURTHER INFORMATION CONTACT: Kimberly E. Smith, M.B.A., M.H.A., Designated Federal Officer, Advisory Committee on Breast Cancer in Young Women, Centers for Disease Control and Prevention, Department of Health and Human Services, 4770 Buford Highway NE, Mailstop S107-4, Atlanta, Georgia 30341-3717. Telephone: (404) 498-0073; Email: KESmith@cdc.gov.

SUPPLEMENTARY INFORMATION: CDC is providing notice under 5 U.S.C. 1001-1014 of the renewal of the charter of the Advisory Committee on Breast Cancer in Young Women, Centers for Disease Control and Prevention, Department of Health and Human Services. This charter has been renewed for a two-year period through June 17, 2026.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-14289 Filed 6-27-24; 8:45 am]

BILLING CODE 4163-18-P